DEPARTMENT OF HEALTH AND HUMAN SERVICES

Office of Inspector General

Program Exclusions: January 2001

AGENCY: Office of Inspector General, HHS.

ACTION: Notice of program exclusions.

During the month of January 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
AHMED, ASHFAQ | 02/20/2001
BROWNSTOWN TWP, MI
BIAGGI, BART | 02/20/2001
SAN JOSE, CA
BINDER, MARK ALBERT | 02/20/2001
UTICA, NY
BISLAMIAN, ARTHUR SAMVEL | 02/20/2001
LOS ANGELES, CA BODISON, LARRY L | 02/20/2001
WALTERBORO, SC
CENTRAL AMBULANCE SERVICE, INC | 02/20/2001
CORAOPOLIS, PA
CHIN, JENNY | 02/20/2001
LONG BEACH, CA
CRAWFORD, CAROLYN | 02/20/2001
PICKENS, MS
D'AMATO, JAMES | 02/20/2001
W BABYLON, NY
DONNELLY, BARBARA J | 02/20/2001
CINCINNATI, OH
ELLENWOOD, JANET L | 02/20/2001
NAVARRE, OH
FELEKIAN, HRACH | 02/20/2001
LONG BEACH, CA
GALIANO, JORGE | 02/20/2001
MIAMI, FL
GOLDSTEIN, JOSEPH | 02/20/2001
SCARSDALE, NY
GOROSH, RICHARD P | 02/20/2001
LANSING, MI
GREATHOUSE, BETTY | 02/20/2001
LARVED, KS
GUIDOTTI-ALEXANDER, ELAINE | 02/20/2001
SAN JOSE, CA
IMPERIAL, NORMAN | 02/20/2001
ANAHEIM, CA
JOHNSON, DEROTT | 02/20/2001
STURTEVANT, WI
JOYNER, MELBA J | 02/20/2001
WINTERVILLE, NC
KURINETS, VLADIMIR | 02/20/2001
BROOKLYN, NY
LORENZO, LORENZO | 02/20/2001
HIALEAH, FL
MACDONALD, DANESSA MAICHELE | 02/20/2001
PUNXSUTAWNEY, PA
MATHIS, NELSON D | 02/20/2001
HENDERSONVILLE, NC
MATO, AMPARO | 02/20/2001
HIALEAH, FL
MATO, ADOLFO | 02/20/2001
HIALEAH, FL
NICKOLAOU, MARK LOUIS | 02/20/2001
SAINT JOHN, IN
NIKOGOSYAN, VARDAN | 02/20/2001
LOS ANGELES, CA
PATEL, NIRANJAN | 02/20/2001
BAYSIDE, NY
PHILLIPS, MITCHEL EARL | 02/20/2001
LAS VEGAS, NV
PHILLIPS, RAMONA DENISE | 02/20/2001
OKLAHOMA CITY, OK
PIKESH, KEVIN D | 02/20/2001
SPRINGFIELD, IL
PISANI, LOUIS A | 02/20/2001
GARDEN CITY, NY
RESTORATION COUNSELING CTR, INC | 02/20/2001
SAINT JOHN, IN
RICHARDS, AARON D | 02/20/2001
DEAL, NJ
ROBLES, MARCELINO | 02/20/2001
PHILADELPHIA, PA
SANVITO, ANTHONY J | 02/20/2001
CORAOPOLIS, PA
SANVITO, MARGARET M | 02/20/2001
PITTSBURGH, PA
SCHILLERSTROM, HERBERT LEE JR | 10/04/2000
PEORIA, AZ
SENEGAL, JOAN A | 02/20/2001
PORT ARTHUR, TX
SHAIKH, NAZIR AHMED | 02/20/2001
JAMAICA ESTATES, NY
SHOOSTER, CHARLES NATHAN | 02/20/2001
BEVERLY HILLS, CA
THOMAS, ANTHONY | 02/20/2001
BERKSHIRE, UK,
ZEYTUNYAN, ARUTYUN | 02/20/2001
VAN NUYS, CA
FELONY CONVICTION FOR HEALTH CARE FRAUD
ANGLADA, NITZA | 02/20/2001
JAMAICA, NY
AUSTIN, LATOYA | 02/20/2001
MILWAUKEE, WI
CARR, ALESHIA B | 02/20/2001
LEXINGTON, KY
CHAVARRIA, KEVIN | 02/20/2001
MONTGOMERY, PA
GRANGER, MAI D | 02/20/2001
WILLINGBORO, NJ
HARRIS, TIFFANY ANN | 02/20/2001
MILWAUKEE, WI
JOHNSON, SHEILA RENAE | 02/20/2001
MILWAUKEE, WI
MERNICK, MITCHELL HARVEY | 02/20/2001
OTISVILLE, NY
PETERSON, CHARMOND ANTICE | 02/20/2001
MILWAUKEE, WI
POWELL, VICKIE REGINA | 02/20/2001
MILWAUKEE, WI
RAMFT, LINDA J | 02/20/2001
WINTER PARK, FL
WALDEN, GLADYS MARIE | 02/20/2001
HILLSBORO, AL
FELONY CONTROL SUBSTANCE CONVICTION
ALLGOOD, LISA | 02/20/2001
GOODLETTSVILLE, TN
BAYME, LLOYD G | 02/20/2001
LONG BRANCH, NJ
BECKER, DAVID STEPHEN | 02/20/2001
HALLANDALE, FL
BURNS, JOHN EDWARD | 02/20/2001
SHAMOKIN, PA
FISHER, DAVID MICHAEL | 02/20/2001
SHAMOKIN, PA
HARDING, VALERIE L | 02/20/2001
LINWOOD, MA
HENSON, RHEA E | 02/20/2001
FAIRFAX, VA
HYLINSKI, JOSEPH | 02/20/2001
KING OF PRUSSIA, PA
LEE, KIMBERLY A | 02/20/2001
HIGH POINT, NC
MAGUIRE, SEAN M | 02/20/2001
CINCINNATI, OH
MAY, DARLA MARIE | 02/20/2001
PEARL, MS
MAYNARD, PAMELA P CARVER | 02/20/2001
SMITHVILLE, TN
MCLAUGHLIN, GERARD P | 02/20/2001
E LIVERPOOL, OH
STARE, JOHN C | 02/20/2001
N OLMSTED, OH
WEEKS, LOIS ELIZABETH | 02/20/2001
MARIANNA, FL
PATIENT ABUSE/NEGLECT CONVICTIONS
CONNER, DEBRA KAY | 02/20/2001
CONNELLSVILLE, PA
FAIR, KEITH ALFRED | 02/20/2001
CHEHALIS, WA
FLEMING, PHYLLIS R | 02/20/2001
BROOKHAVEN, MS
GALBRAITH, CHARLES WILLIS | 02/20/2001
ENID, OK
GBENGA, ADENIRAN B | 02/20/2001
COLUMBUS, OH
GREEN, MARILYN DELORIS | 02/20/2001
CLEVELAND, OH
HALL, INDIA S | 02/20/2001
PEPPER TREE VILAS, OH
HANDY-CLARK, VICKI | 02/20/2001
JACKSON, MS
HARPER, DOROTHY | 02/20/2001
MCCOMB, MS
HEBB, SONJA M | 02/20/2001
CASSOPOLIS, MI
HUBER, MARK D | 02/20/2001
BLOOMER, WI
JAMES, DELORIS MATTHEWS | 02/20/2001
MINDEN, LA
JEFFERSON, BANSHEE P | 02/20/2001
MANSFIELD, OH
JOHNSON, RENEE J | 02/20/2001
COLUMBUS, OH
PAIGE, STACY R | 02/20/2001
HALLETTSVILLE, TX
PAYNTER, SHANNON B | 02/20/2001
STANARDSVILLE, VA
RISHEL, THOMAS | 02/20/2001
LONG BEACH, MS
RUDOWSKY, LINDA | 02/20/2001
PARMA, OH
SIDHU, DARSHAN SINGH | 02/20/2001
SALINAS, CA
SIMMONS, JOHN H II | 02/20/2001
LUFKIN, TX
STRAWBERRY, MICHAEL | 02/20/2001
LEXINGTON, MS
STROUSE, STEPHANIE | 02/20/2001
MILLERSBURG, OH
WILLIAMS, DEBBIE | 02/20/2001
CANTON, MS
WILLIAMS, QUINESSA B | 02/20/2001
NEW ORLEANS, LA
WINFORD, MARY | 02/20/2001
COLUMBUS, MS
WINTERS, DOROTHY | 02/20/2001
JACKSON, MS
CONTROLLED SUBSTANCE CONVICTIONS
NELKIE, KAREN ANN | 02/20/2001
EAST TAWAS, MI
PATEL, DINKAR N | 02/20/2001
GRUNDY, VA
LICENSE REVOCATION/SUSPENSION/SURRENDERED
AGEE, LAWRENCE CARTER | 02/20/2001
AUBURN, CA
ALDER, DAMIAN M | 02/20/2001
GULFPORT, MS
ALLEN, FRANK BENTON | 02/20/2001
TRINITY CENTER, CA
ANDERSON, MEGAN | 02/20/2001
STRATFORD, CT
AQUINO, LOURDES ANABEL | 02/20/2001
PASADENA, CA
ARDEHALI, MOHAMMAD | 02/20/2001
NEWARK, NJ
ARMSTRONG, PETRICIA G | 02/20/2001
CAPE CORAL, FL
ARORA, VIJENDER KUMAR | 02/20/2001
MINNEAPOLIS, MN
ATWELL, BRENDA DIANE | 02/20/2001
NARROWS, VA
BAINBRIDGE, MICHELLE A | 02/20/2001
ERIE, PA
BARRY, CHERYL JOAN | 02/20/2001
PARIS, TX
BARTLETT, JENNIFER M | 02/20/2001
SPRINGFIELD, VT
BAURLEY, JAMES R | 02/20/2001
MARTINSVILLE, IN
BEASLEY, KAREN | 02/20/2001
JACKSON, MS
BEATTY, BRUCE E | 02/20/2001
MARION, IN
BECK, ALLAN GERSON | 02/20/2001
WATERFORD, NJ
BERG, ALBERT JACK | 02/20/2001
MAITLAND, FL
BETOUSHANA, DEMATOUR | 02/20/2001
SAN JOSE, CA
BISHOP, KAREN ELIZABETH | 02/20/2001
EL CAMPO, TX
BLAKE, HAYDEN ANTHONY | 02/20/2001
MEDFORD, NY
BOE, NAN GALLAGHER | 02/20/2001
TAUNTON, MA
BOGARDUS, RICHARD JAMES | 02/20/2001
SACRAMENTO, CA
BOLES, CAROL A | 02/20/2001
BELLVIEW, FL
BONANCA, PATRICIA S | 02/20/2001
FALL RIVER, MA
BOWER, KAREN | 02/20/2001
BERWICK, PA
BRADEN, CLARA T | 02/20/2001
LAKE CITY, TN
BRADFORD, SUSAN L | 02/20/2001
COATSVILLE, PA
BRADFORD, IDA J | 02/20/2001
GOODLETTSVILLE, TN
BREEDLOVE, KIRSTEN LEE | 02/20/2001
SHERMAN, TX
BRELAND, PAMELA C | 02/20/2001
RIDGELAND, MS
BROWN, MARK W | 02/20/2001
ENTERPRISE, MS
BRUSOLA, LEONIDA BANAL | 02/20/2001
SEATTLE, WA
BUCK, ROBERT ARCHIE | 02/20/2001
KALAMAZOO, MI
BURDETTE, VIVIAN REED | 02/20/2001
SENATOBIA, MS
BURGE, SHERRI ANN | 02/20/2001
NAMPA, CA
BURNS, PEGGY LOUISE | 02/20/2001
STAR CITY, AR
BUTLER, JOHN JEFFRIES | 02/20/2001
STOCKTON, CA
CAMP, JANICE E | 02/20/2001
MANCHESTER, CT
CAMPBELL, MARGARET JANE | 02/20/2001
WATERTOWN, NY
CAMPBELL, FRANCIS MICHAEL | 02/20/2001
SAN JOSE, CA
CANDIA, TYWILLA J | 02/20/2001
BOONEVILLE, MS
CARNAHAN, TRACY ELIZABETH | 02/20/2001
CONNEAUT LAKE, PA
CHESHIER, BEVERLY V G | 02/20/2001
BUCHANAN DAM, TX
CHESTER, ALTHEA LORETTA | 02/20/2001
MORENO VALLEY, CA
CHRISTY, ELAINE | 02/20/2001
WALDORF, MD
COLINA, ERNESTO | 02/20/2001
PLANT CITY, FL
COLLIER, KELLY | 02/20/2001
ST PETERSBURG, FL
COLLINS, KENNETH G | 02/20/2001
COLORADO SPRINGS, CO
CONLEE, STEVEN PAUL | 02/20/2001
EDINBURG, TX
CUCCIA, RONALD DANIEL | 02/20/2001
SAN DIMAS, CA
CUNNINGHAM, PATRICK JOSEPH | 02/20/2001
CLARKSTON, WA
CYR, JOSEPH GUYNEMER | 02/20/2001
VAN BUREN, ME
CZERTKO, GEORGE | 02/20/2001
WARREN, MI
DIONEDA, RUDOLFO DUAZO | 02/20/2001
GRANITE CITY, IL
DIXON, CATHY LYNN | 02/20/2001
JONESBORO, AR
DODD, WARREN DUANE | 02/20/2001
THOUSAND OAKS, CA
DOERING, MARY C | 02/20/2001
LITHIA SPRINGS, GA
DOLPH, WILLIAM W JR | 02/20/2001
HOMEWOOD, IL
ECKARD, SHERIE BOWSER | 02/20/2001
MCKEES ROCKS, PA
ELLISON, DIANE N | 02/20/2001
LEWISTON, ID
FERRO, JOSEPH C | 02/20/2001
ASTON, PA
FIDDES, ROBERT ALAN | 02/20/2001
BOSTON, MA
FINLEY, CYNTHIA D | 02/20/2001
DURAND, MI
FLYNN, JOHN EDWARD JR | 02/20/2001
LEVITTOWN, PA
FODIMAN, MARTIN S | 02/20/2001
MEMPHIS, TN
FORLIZZO, JOSEPH | 02/20/2001
ST PETERSBURG, FL
FRASE-GONZALES, TERESA MARIE | 02/20/2001
NEW SMYRNA BEACH, FL
FRIEDMAN, BOBBI ANN | 02/20/2001
SAN DIEGO, CA
GAGNON, DIANN H | 02/20/2001
SPRINGFIELD, MA
GAMAL, DEEMA ANN | 02/20/2001
LIVONIA, MI
GARVEY, LEO WILLIAM | 02/20/2001
PATCHOGUE, NY
GILDER, MICHAEL O | 02/20/2001
ALLISON PARK, PA
GILL, LORI ANN | 02/20/2001
IDAHO FALLS, ID
GREIDER, ELAINE M | 02/20/2001
OAKVILLE, CT
HAMILTON, CYNTHIA JEAN | 02/20/2001
AMERICAN CANYON, CA
HANINCHECK, SUSAN | 02/20/2001
BALTIMORE, MD
HANSON-LIZEWSKI, KATRINA | 02/20/2001
WINOOSKI, VT
HARRISON-EKLUND, CATHERINE | 02/20/2001
W HAMPTON, NY
HAYNES, TERESA MAE | 02/20/2001
SACRAMENTO, CA
HENDERSON, WILLIAM LARRY | 02/20/2001
WILDOMAR, CA
HEUSNER, JAMES J | 02/20/2001
ACWORTH, GA
HILLEGAS, SHERRY | 02/20/2001
BALTIMORE, MD
HILSE, ANDREA M | 02/20/2001
LAWRENCE, MA
HINES, JOHN EDWARD | 02/20/2001
FULLERTON, CA
HOLBERT, CHARLES MIKE | 02/20/2001
VANCLEAVE, MS
INGLE, ALISON RENEE | 02/20/2001
GUIN, AL
JACOBS, JANET KAY | 02/20/2001
SAN BERNARDINO, CA
JOHNSON, LINDA K | 02/20/2001
ST JOHNSBURY, VT
KING, RHONDA CYLLE | 02/20/2001
GARY, IN
KIRKPATRICK, CHRISTINE J BRISSETTE | 02/20/2001
NORTHFIELD, VT
KONOBECK, MARIAN VIRGINIA | 02/20/2001
STILLWATER, MN
KRIEGER, KATHY FUNK | 02/20/2001
CHAMBERSBURG, PA
KUSSE, LEE JOHN | 02/20/2001
DANNEMORA, NY
KYLES, VANESSA | 02/20/2001
MONROEVILLE, AL
LOMELIN, EDWARD | 02/20/2001
LAREDO, TX
MAGNUS, VERNON JOHN | 02/20/2001
LODI, CA
MANN, DONNA JEAN | 02/20/2001
RIVERDALE, UT
MARQUEZ, CAMILO R | 02/20/2001
PHOENECIA, NY
MARTIN, GEORGIA MARIE | 02/20/2001
RUPERT, ID
MARTIN, LAWRENCE F | 02/20/2001
WAYNESBURG, PA
MARTIN, ELIZABETH MURRAY | 02/20/2001
HOLLYWOOD, FL
MARTZ, BARBARA | 02/20/2001
MOYIE SPRINGS, ID
MCGRIFF, LEISA DIANE | 02/20/2001
HANCEVILLE, AL
MCGUINESS, JOSEPH LEWIS | 02/20/2001
PITTSBURGH, PA
MCINTOSH, JOE G | 02/20/2001
OVETT, MS
MCKERRIGAN, MONTE G | 02/20/2001
KOKOMO, IN
MILLAR, WILLIAM H | 02/20/2001
PHILADELPHIA, PA
MITCHELL, BRENDA KAY | 02/20/2001
MANSFIELD, TX
MLYNSKI, CHARLES EDWARD JR | 02/20/2001
WYTHEVILLE, VA
MOHS, SHEILA GARDNER | 02/20/2001
VISALIA, CA
NDAWULA, PAUL | 02/20/2001
CERRITOS, CA
NELSON, GENEVIEVE SIGNE SWENSON | 02/20/2001
JEROME, ID
NEWSON, GERTRUDE O | 02/20/2001
CHICAGO, IL
NEWTON, SUSAN E | 02/20/2001
NEW CASTLE, PA
NICHOLSON, PENNY KATE | 02/20/2001
SAN ANSELMO, CA
O'SHEA, FRANK M | 02/20/2001
ELLICOTT CITY, MD
OBERDORFER, JUDITH M | 02/20/2001
CORONA, CA
ODIE, ELAINE | 02/20/2001
JACKSON, MS
OLADINNI, ALLEN O | 02/20/2001
LOUISVILLE, KY
OLIVER, BONNIE L | 02/20/2001
RED CREEK, NY
OMOROGBE, FLORA MAE | 02/20/2001
BELLWOOD, IL
PADULA, MICHAEL JOHN | 02/20/2001
MOSCOW, ID
PALMER, ASHLEY D | 02/20/2001
LEBANON, NH
PARRISH, CHARLES EZRA JR | 02/20/2001
BRODNAX, VA
PASCHAL, NORMA J | 02/20/2001
CLARKSDALE, MS
PAUL, NANCY E | 02/20/2001
FLORA, MS
PETTWAY, BARBARA BAGGETT | 02/20/2001
MT OLIVE, MS
PHELPS, CAROL B | 02/20/2001
SHEAP RANCH, CA
PHOENIX, JANA KAY | 02/20/2001
CENTRALIA, IL
PLUMMER, JULIA C | 02/20/2001
ALTOONA, PA
POLLAK, LYNNE | 02/20/2001
NEW MILFORD, CT
PRICE, TIMOTHY ABELL | 02/20/2001
PALO ALTO, CA
PRITCHETT, JOSEPHINE | 02/20/2001
CHICAGO, IL
RAGLAND, ELIZABETH JOAN | 02/20/2001
COLLEGEVILLE, PA
REED, VELVERN ELANE | 02/20/2001
WHITESBORO, TX
REVITZER, MAX MICHAEL | 02/20/2001
DETROIT, MI
RIGAUD, RALPH GILBERT | 02/20/2001
CHICAGO, IL
ROBERTS, WENDY L | 02/20/2001
ANDOVER, MA
ROBINS, EMMA LEE | 02/20/2001
CHICAGO, IL
ROBINSON, JOSEPH | 02/20/2001
WINTER PARK, FL
ROLING-DAHLGREN, KIRSTEN | 02/20/2001
TIBURON, CA
RUTLAND, WILLIAM | 02/20/2001
BRANDON, MS
SANBORN, MICHELE R | 02/20/2001
ANNAPOLIS, MD
SAUNDERS, WESLEY | 02/20/2001
JACKSONVILLE, FL
SCHLUETER, JULIA | 02/20/2001
QUINTON, VA
SELLERS, DENNIS | 02/20/2001
GAUTIER, MS
SIMMONS, KATHERINE | 02/20/2001
GRENADA, MS
SNEAD, PAUL | 02/20/2001
BALTIMORE, MD
STINSON, MICHAEL D | 02/20/2001
LAWRENCEVILLE, GA
STONE, BERYL N | 02/20/2001
RONKONKOMA, NY
SUMMERIES, BRENDA | 02/20/2001
CHICAGO, IL
SWAIN, BRETT F | 02/20/2001
ENTERPRISE, MS
TALLEY, DEBORAH CARLENE | 02/20/2001
MALVERN, AR
TAPPER, FREDERIC S | 02/20/2001
WARREN, NJ
TAYLOR, DAPHNE VINSON | 02/20/2001
PALMYRA, VA
TERRY-HARPER, MELINDA S | 02/20/2001
DELTA, CO
THOMAS-MCCAULEY, TINA M | 02/20/2001
CLEVELAND HGTS, OH
TILLEY, GEORGE F | 02/20/2001
PITTSBURGH, PA
TURNER, TERRI LEE | 02/20/2001
TWIN FALLS, ID
VASCONCELOS, ANNA LEE | 02/20/2001
E PROVIDENCE, RI
VAUGHAN, JENNIFER LEE | 02/20/2001
SAN ANTONIO, TX
VAUGHAN, NANCY MARY LANCE | 02/20/2001
LEWISTON, ID
VILLARTA, ANTONIO QUIDES JR | 02/20/2001
PITTSFIELD, MI
WATERMAN, JOYCE A | 02/20/2001
WINDSOR LOCKS, CT
WELSH, PATRICIA | 02/20/2001
MONTPELIER, VT
WHITTLE, MICHAEL R | 02/20/2001
CORDELE, GA
WILEY, LISA ANN | 02/20/2001
W HOLLYWOOD, CA
WILKINSON, JAMES M | 02/20/2001
PEABODY, MA
WILLIAMS, LYNN | 02/20/2001
WATERFORD, CT
WILSON, BRENDA | 02/20/2001
JACKSON, MS
WINTERS, PATRICIA ANN | 02/20/2001
CHICAGO, IL
WIRTZ, CHARLOTTE ANN | 02/20/2001
SAN DIEGO, CA
WISHARD, RONALD JASON | 02/20/2001
HONEY GROVE, TX
FEDERAL/STATE EXCLUSION/SUSPENSION
ALLEN, PROBYN | 02/20/2001
WILLINGBORO, NJ
ELCHAGEA, ISMAIL | 02/20/2001
PATERSON, NJ
MATURA, DENISE | 02/20/2001
BRICK, NJ
PICO MEDICAL PRODUCT | 02/20/2001
LOS ANGELES, CA
POTEET, CHERYL | 02/20/2001
BRECKENRIDGE, TX
RUSH, DAVID ALLEN | 02/20/2001
CAMDEN, NJ
SCALZI, FRANCIS P JR | 02/20/2001
MERIDEN, CT
OWNED/CONTROLLED BY CONVICTED EXCLUDED
AMERILOU PHARMACY CORP | 02/20/2001
E GARDEN CITY, NY
COUNTRY DOCTOR'S CLINIC, INC | 02/20/2001
GARRETTSVILLE, OH
NOVA PHARMACY | 02/20/2001
MIAMI, FL
ROBERT P LOUIS FAM DENTISTRY | 02/20/2001
BROOKLYN, NY
DEFAULT ON HEAL LOAN
CADE, CRAIG BRYAN | 02/20/2001
ROSEBUD, SD
COLBERT, DENISE Y | 02/20/2001
FREDERIKSTED, VI
FEATHER, MELODIE K | 02/20/2001
WOODBRIDGE, VA
FIALLO, LUZ G | 02/20/2001
ORLANDO, FL
HANEY, ROCHELLE E | 02/20/2001
ULYSSES, KS
HARIRIE, JIM A | 02/20/2001
NORWALK, CA
HARPER, RONALD A | 02/20/2001
LITTLE ROCK, AR
HOLTHUS, BRUCE J | 02/20/2001
LITTLETON, CO
IRRERA, STEPHEN A | 12/28/2000
HARTFORD, CT
KAISER, BART A | 02/20/2001
RENTON, WA
LEWIS, BENNETT A | 02/20/2001
W PALM BEACH, FL
LIPMAN, FREDERICK S | 02/20/2001
MEMPHIS, TN
MABRY, OFELIA M | 02/20/2001
NEWTON CENTER, MA
MASON, RICHARD R | 02/20/2001
CENTERBURG, OH
MCGREGOR-MYERS, MYRNA V | 02/20/2001
GRAND TERRACE, CA
MIKOLINNAS, THOMAS A | 02/20/2001
LEOMINSTER, MA
MULCAHY, PATRICK J | 02/20/2001
BRUNSWICK, OH
OBREGON, KATHRYN E | 02/20/2001
BISMARK, ND
PUMILIA, CATHRYN A | 02/20/2001
ROCKFORD, IL
RAMIREZ, LAURA A | 02/20/2001
BURLINGTON, VT
RANSOM, SHERRY M | 02/20/2001
MT VERNON, NY
REYNOSO, ALFONSO C | 02/20/2001
SAN YSIDRO, CA
RICHARDS, CYNTHIA JOYCE | 02/20/2001
DAYTON, OH
ROSE, MARK D | 02/20/2001
CHINCOTEAGUE ISLND, VA
RUSSELL, KAREN MERKEL | 02/20/2001
LITTLETON, CO
SIKOE, ROGER ELLIOTT | 02/20/2001
PEMBROKE PINES, FL
TAPIA, JUANITA V | 02/20/2001
CHICAGO, IL
TULL, HEIDI M | 02/20/2001
ATLANTA, GA
WASHINGTON, SHEILA D | 02/20/2001
SLIDELL, LA

Dated: February 5, 2001.
Calvin Anderson, Jr.,
Director, Health Care Administrative Sanctions, Office of Inspector General.

[FR Doc. 01-3681 Filed 2-13-01; 8:45 am]

BILLING CODE 4150-04-P